SECURITIES AND EXCHANGE COMMISSION

[File No. 1-13964]

Issuer Delisting; Notice of Application To Withdraw From Listing and Registration on the American Stock Exchange LLC (The Southern Banc Company, Inc., Common Stock, $.01 Par Value)

December 11, 2003.

The Southern Banc Company, Inc., a Delaware corporation (“Issuer”), has filed an application with the Securities and Exchange Commission (“Commission”), pursuant to section 12(d) of the Securities Exchange Act of 1934 (“Act”)¹ and Rule 12d2-2(d) thereunder,² to withdraw its Common Stock, $.01 par value (“Security”), from listing and registration on the American Stock Exchange LLC (“Amex” or “Exchange”).

¹ 15 U.S.C. 78l(d).

² 17 CFR 240.12d2-2(d).

The Board of Directors of the Issuer unanimously approved a resolution on November 12, 2003 to withdraw the Issuer's Security from listing on the Amex. The Board of Directors of the Issuer states that the reasons it is taking such action are as follows: (i) The Issuer has a limited number of stockholders of record; (ii) the costs associated with maintaining the Issuer's status as an Amex-listed company; (iii) the limited volume of trading of the shares; and (iv) no analysts cover the Issuer and the shares.

The Issuer stated in its application that it has met the requirements of Amex Rule l8 by complying with all applicable laws in the State of Delaware, in which it is incorporated, and with the Amex's rules governing an issuer's voluntary withdrawal of a security from listing and registration.

The Issuer's application relates solely to the withdrawal of the Securities from listing on the Amex and from registration under section 12(b) of the Act ³ and shall not affect its obligation to be registered under section 12(g) of the Act.⁴

³ 15 U.S.C. 78l(b).

⁴ 15 U.S.C. 78l(g).

Any interested person may, on or before January 5, 2004, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

⁵ 17 CFR 200.30-3(a)(1).

For the Commission, by the Division of Market Regulation, pursuant to delegated authority.⁵
Jonathan G. Katz,
Secretary.

[FR Doc. 03-31110 Filed 12-16-03; 8:45 am]

BILLING CODE 8010-01-P